DEPARTMENT OF LABOR

Employment and Training Administration

Agency Information Collection Activities; Comment Request; Reemployment Services and Eligibility Assessment (RESEA) Program

ACTION: Notice.

SUMMARY: The Department of Labor's (DOL's) Employment and Training Administration (ETA) is soliciting comments concerning a proposed extension for the authority to conduct the information collection request (ICR) titled, “Reemployment Services and Eligibility Assessment (RESEA) Program.” This comment request is part of continuing Departmental efforts to reduce paperwork and respondent burden in accordance with the Paperwork Reduction Act of 1995 (PRA).

DATES: Consideration will be given to all written comments received by May 13, 2019.

ADDRESSES: A copy of this ICR with applicable supporting documentation, including a description of the likely respondents, proposed frequency of response, and estimated total burden, may be obtained free by contacting Lawrence Burns by telephone at 202-693-3141 (this is not a toll-free number), TTY 1-877-889-5627 (this is not a toll-free numbers), or by email at Burns.Lawrence@dol.gov.

Submit written comments about or requests for a copy of this ICR by mail or courier to the U.S. Department of Labor, Employment and Training Administration, Office of Unemployment Insurance Room S-4524, 200 Constitution Avenue NW, Washington, DC 20210, by email at Burns.Lawrence@dol.gov, or by Fax at 202-693-3975.

FOR FURTHER INFORMATION CONTACT: Stephanie Garcia by telephone at 202-693-3207 (this is not a toll-free number) or by email at Garcia.Stephanie@dol.gov.

SUPPLEMENTARY INFORMATION: As part of continuing efforts to reduce paperwork and respondent burden, DOL conducts a pre-clearance consultation program to provide the general public and Federal agencies an opportunity to comment on proposed and/or continuing collections of information before submitting them to the Office of Management and Budget (OMB) for final approval. This program helps to ensure requested data is provided in the desired format, reporting burden (time and financial resources) is minimized, collection instruments are clearly understood, and the impact of collection requirements can be properly assessed.

The continued collection of information contained on the ETA 9128 (Reemployment and Eligibility Assessment Workload) and ETA 9129 (Reemployment Services and Eligibility Assessment Outcomes) reports is necessary to enable ETA to continue evaluation of the effectiveness of the RESEA program. The ETA 9128 report captures RESEA activities such as the number of claimants scheduled for RESEA, the number of claimants reporting to reemployment services and training, and the number of claimants who have failed to report. The ETA 9129 report captures RESEA program outcomes such as the total number of weeks compensated, the total amount of benefits paid, and the number of claimants exhausting benefits. The ETA 9128X and ETA 9129X are reports that collect service activities and outcome data specific to claimants served by RESEAs and who receive Unemployment Compensation for Ex-Servicemembers (UCX) benefits. New section 306 of the Social Security Act (SSA) was recently enacted creating a permanent RESEA program as part of the SSA. Under this law, the RESEA program no longer includes UCX recipients as required RESEA participants. As a result, data previously reported in the ETA 9128X and ETA 9129X reports is no longer needed. Therefore, data collection for the ETA 9128X and ETA 9129X reports will be discontinued under this revision, lessening the burden on states. Section 303(a)(6), SSA, authorizes this information collection.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid OMB Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB Control Number 1205-0456.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submission of responses.

Agency: DOL-ETA.

Type of Review: Revision.

Title of Collection: Reemployment Services and Eligibility Assessment (RESEA) Program.

Forms: ETA 9128 and ETA 9129.

OMB Control Number: 1205-0456.

Affected Public: State and Local Governments.

Estimated Number of Respondents: 49.

Frequency: Quarterly.

Total Estimated Annual Responses: 392.

Estimated Average Time per Response: 0.5 hours.

Estimated Total Annual Burden Hours: 196 hours.

Total Estimated Annual Other Cost Burden: $0.

Authority: 44 U.S.C. 3506(c)(2)(A).

Molly E. Conway,
Acting Assistant Secretary for Employment and Training, Labor.

[FR Doc. 2019-04575 Filed 3-12-19; 8:45 am]

BILLING CODE 4510-FW-P